DEPARTMENT OF THE TREASURY

Submission for OMB Review; Comment Request

February 5, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 24, 2003 to be assured of consideration.

U.S. Customs Service (CUS)

OMB Number: 1515-0032.

Form Number: Customs Form 5125.

Type of Review: Extension.

Title: Application for Withdrawal of Bonded Stores for Fishing Vessels and Certification of Use.

Description: The Customs Form 5125 is used for the withdrawal and lading of bonded merchandise (especially alcoholic beverages) for use on board fishing vessels and foreign or domestic vessels involved in international trade. The form also certifies the use: total consumption or partial consumption with secure storage for use of next voyage.

Respondents: Business or other for-profit, Not-for-profit institutions.

Estimated Number of Respondents/Recordkeepers: 500.

Estimated Burden Hours Per Respondent/Respondent: 5 minutes.

Frequency of Response: On occasion.

Estimated Total Reporting/Recordkeeping Burden: 42 hours.

OMB Number: 1515-0050.

Form Number: Customs Forms 3347 and 3347-A.

Type of Review: Extension.

Title: Customs Form 3347: Declaration of Owner Merchandise Obtained in Pursuance of Purchase; and Customs Form 3347-A: Declaration of Importer of Record When Entry is Made by an Agent.

Description: Customs Forms 3347 and 3347-A allow an agent to submit, subsequent to making the entry, the declaration of the importer of record which is required by statute. These forms also permit a nominal importer of record to file the declaration of the actual owner.

Respondents: Business or other for-profit, Not-for-profit institutions.

Estimated Number of Respondents/Recordkeepers: 5,700.

Estimated Burden Hours Per Respondent/Recordkeeper: 6 minutes.

Frequency of Response: On occasion.

Estimated Total Reporting/Recordkeeping Burden: 570 hours.

OMB Number: 1515-0108.

Form Number: None.

Type of Review: Extension.

Title: Declaration of a Person Abroad Who Receives and is Returning Merchandise to the U.S.

Description: The declaration is used under conditions where articles are imported and then exported and then reimported free of duty due to the declaration, it is used to ensure Customs control over duty-free merchandise.

Respondents: Individuals or households, Business or other for-profit.

Estimated Number of Respondents/Recordkeepers: 500.

Estimated Burden Hours Per Respondent /Recordkeeper: 10 minutes.

Frequency of Response: On occasion.

Estimated Total Reporting/Recordkeeping Burden: 250 hours.

OMB Number: 1515-0142.

Form Number: None.

Type of Review: Extension.

Title: Transfer of Cargo to a Container Station.

Description: The container station operator may file an application for transfer of a container intact to a container station which is moved from the place of unlading or from a bonded carrier after transportation in-bond before filing of the entry for the purpose of breaking bulk and redelivery.

Respondents: Business or other for-profit, Not-for-profit institutions.

Estimated Number of Respondents/Recordkeepers: 380.

Estimated Burden Hours Per Respondent/Recordkeeper: 7 minutes.

Frequency of Response: On occasion.

Estimated Total Reporting/Recordkeeping Burden: 2,513 hours.

OMB Number: 1515-0173.

Form Number: None.

Type of Review: Extension.

Title: Blanket Certification of Chemical Substances.

Description: The Customs Regulations require an importer's certification in connection with the importation of chemical substances subject to the Toxic Substances Control Act. This collection reduces the regulatory burden by permitting use of a blanket certification for multiple shipments in lieu of a separate certification for each individual shipment.

Respondents: Business or other for-profit, Not-for-profit institutions.

Estimated Number of Respondents/Recordkeepers: 300.

Estimated Burden Hours Per Respondent /Recordkeeper: 15 minutes.

Frequency of Response: On occasion.

Estimated Total Reporting/Recordkeeping Burden: 75 hours.

OMB Number: 1515-0222.

Form Number: None.

Type of Review: Extension.

Title: Bond Procedures for Articles Subject to Exclusion Orders Issued by the U.S. International Trade Commission.

Description: This collection of information is required to ensure compliance with section 337 of the Tariff Act of 1930, regarding bond procedures for the entry of articles subject to exclusion orders by the International Trade Commission.

Respondents: Business or other for-profit, Not-for-profit institutions.

Estimated Number of Respondents/Recordkeepers: 50.

Estimated Burden Hours Per Respondent/Recordkeeper: 30 minutes.

Frequency of Response: On occasion.

Estimated Total Reporting/Recordkeeping Burden: 50 hours.

Clearance Officer: Tracey Denning (202) 927-1429, U.S. Customs Service, Information Services Branch, Ronald Reagan Building, 1300 Pennsylvania Avenue, NW., Room 3.2.C, Washington, DC 20229.

OMB Reviewer: Joseph F. Lackey, Jr. (202) 395-7316, Office of Management and Budget, Room 10235, New Executive Office Building, Washington, DC 20503.

Lois K. Holland,
Treasury PRA, Clearance Officer.

[FR Doc. 03-4034 Filed 2-19-03; 8:45 am]

BILLING CODE 4820-02-P